ENVIRONMENTAL PROTECTION AGENCY

[FRL-7053-9]

Agency Information Collection Activities: Submission for OMB Review; Comment Request, NSPS for Coal Preparation Plants.

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: ICR for 40 CFR Part 60 Subpart Y—NSPS for Coal Preparation Plants; OMB Control Number 2060-0122; expiration date is September 30, 2001. The ICR describes the nature of the information collection and its expected burden and cost; where appropriate, it includes the actual data collection instrument.

DATES: Comments must be submitted on or before October 11, 2001.

ADDRESSES: Send comments, referencing EPA ICR No.1062.07 and, OMB Control No. 2060-0122, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by email at Auby.susan@epamail.epa.gov, or download off the Internet at http://www.epa.gov/icr and refer to EPA ICR No. 1062.07. For technical questions about the ICR contact Dan Chadwick at (202) 564-7054.

SUPPLEMENTARY INFORMATION: Title: Standards of Performance for Coal Preparation Plants, NSPS Subpart Y, (OMB Control Number 2060-0122; EPA ICR No.1062.07); expiring September 30, 2001. This is a request for extension of a currently approved collection.

Abstract: Owners or operators of the affected facilities described must make the following one-time-only reports: notification of the date of construction or reconstruction; notification of the actual dates of start-up; and notification of any physical or operational change to an existing facility which may increase the regulated pollutant emission rate.

Owners or operators are also required to maintain records of the occurrence and duration of any start-up, shutdown, or malfunction in the operation of an affected facility. These notifications, reports, and records are required, in general for all sources subject to NSPS. There are no additional recordkeeping or reporting requirements specific to coal preparation plants.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on September 15, 2000; (65 FR 55955); no comments were received.

Burden Statement

The annual public reporting and recordkeeping burden for this collection of information is estimated to average 69 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of coal preparation plants.

Estimated Number of Respondents: 390.

Frequency of Response: Occasionally.

Estimated Total Annual Hour Burden: 15463.

Estimated Total Annualized Capital, O&M Cost Burden: $15,000.

Send comments on the Agency's need for this information, the accuracy of the provided burden estimates, and any suggested methods for minimizing respondent burden, including through the use of automated collection techniques to the following addresses listed above.

Please refer to EPA ICR No. 1062.07 and OMB Control No. 2060-0122 in any correspondence.

Dated: August 29, 2001.
Oscar Morales,
Director, Collection Strategies Division.

[FR Doc. 01-22746 Filed 9-10-01; 8:45 am]

BILLING CODE 6560-50-P